NATIONAL AERONAUTICS AND SPACE ADMINISTRATION

[Notice (08-064)]

NASA Advisory Council; Science Committee; Astrophysics Subcommittee; Meeting

AGENCY: National Aeronautics and Space Administration.

ACTION: Notice of meeting.

SUMMARY: The National Aeronautics and Space Administration (NASA) announces a meeting of the Astrophysics Subcommittee of the NASA Advisory Council (NAC). This Subcommittee reports to the Science Committee of the NAC. The Meeting will be held for the purpose of soliciting from the scientific community and other persons scientific and technical information relevant to program planning.

DATES: Monday, October 6, 2008, 9 a.m. to 5 p.m. and Tuesday, October 7, 2008, 9 a.m. to 2:30 p.m. Eastern Daylight Time.

ADDRESSES: Courtyard by Marriott and Conference Center, Saturn Conference Room, 3435 North Atlantic Avenue, Cocoa Beach, FL 32931.

FOR FURTHER INFORMATION CONTACT: Ms. Marian Norris, Science Mission Directorate, NASA Headquarters, Washington, DC 20546, (202) 358-4452, fax (202) 358-4118, or mnorris@nasa.gov.

SUPPLEMENTARY INFORMATION: The meeting will be open to the public up to the capacity of the room. The agenda for the meeting includes the following topics:

—Astrophysics Division Update.

—Joint Dark Energy Mission Update.

—Astrophysics Goals Overview.

—Astrophysics on the Moon Discussion.

It is imperative that the meeting be held on these dates to accommodate the scheduling priorities of the key participants. Attendees will be requested to sign a register. For further information, contact Marian Norris via e-mail at mnorris@nasa.gov or by telephone at (202) 358-4452.

P. Diane Rausch,
Advisory Committee Management Officer, National Aeronautics and Space Administration.

[FR Doc. E8-21606 Filed 9-15-08; 8:45 am]

BILLING CODE 7510-13-P